DEPARTMENT OF DEFENSE

Department of the Army, Corps of Engineers

Notice of Intent to Prepare a Joint Environmental Impact Statement/Environmental Impact Report and Conduct Scoping Meeting for the Corte Madera Creek Flood Control Project General Reevaluation Report and Integrated EIS/EIR, County of Marin, CA

AGENCY: Department of the Army, U.S. Army Corps of Engineers, DoD.

ACTION: Notice; change in public meeting date and extension of comment period.

SUMMARY: The comment period for the Notice of Intent to prepare a joint EIS/EIR and conduct a scoping meeting for the Corte Madera Creek Flood Control Project published in the Federal Register on Friday, December 18, 2015 (80 FR 79034) and required comments by February 1, 2016. The comment period has been extended to February 16, 2016.

DATES: A public scoping meeting was originally scheduled for January 14, 2016, but will now be held on January 28, 2016 from 6:00 to 8:00 p.m. (PST).

ADDRESSES: The scoping meeting location is: The Marin Arts and Garden Center, 30 Sir Francis Drake Boulevard, Ross, CA 94957-9601.

FOR FURTHER INFORMATION CONTACT: Stephen M. Willis, U.S. Army Corps of Engineers, San Francisco District, Planning Branch, 1455 Market Street, San Francisco CA 94103-1398, (415) 503-6861, stephen.m.willis2@usace.army.mil.

SUPPLEMENTARY INFORMATION: None.

James S. Boyette,
Major, US Army, Deputy District Engineer.

[FR Doc. 2015-33065 Filed 12-31-15; 8:45 am]

BILLING CODE 3720-58-P